DEPARTMENT OF ENERGY

Federal Energy Regulatory Commission

[Docket No. EC00-52-000, et al.]

Cook Inlet Energy Supply Limited Partnership, et al.; Electric Rate and Corporate Regulation Filings

February 3, 2000.

Take notice that the following filings have been made with the Commission:

1. Cook Inlet Energy Supply Limited Partnership

[Docket No. EC00-52-000]

Take notice that on January 28, 2000, Cook Inlet Energy Supply Limited Partnership (Cook Inlet) tendered for filing an application pursuant to Section 203 of the Federal Power Act for authorization of a transfer of interests in Cook Inlet and the conversion of Cook Inlet into a limited liability company.

Comment date: February 28, 2000, in accordance with Standard Paragraph E at the end of this notice.

2. Panda Leesburg Power Partners, L.P.

[Docket No. EG00-87-000]

Take notice that on January 28, 2000, Panda Leesburg Power Partners, L.P. (Panda), with its principal offices at 4100 Spring Valley Road, Suite 1001, Dallas, Texas 75244, filed with the Federal Energy Regulatory Commission, an application for determination of exempt wholesale generator status pursuant to Section 32 of the Public Utility Holding Company Act of 1935, as amended, and Part 365 of the Commission's regulations.

Panda is a Delaware limited partnership, which will construct, own and operate a nominal 1,000 MW natural gas-fired generating facility within the region governed by the Florida Reliability Coordinating Council (FRCC) and sell electricity at wholesale.

Comment date: February 24, 2000, in accordance with Standard Paragraph E at the end of this notice. The Commission will limit its consideration of comments to those that concern the adequacy or accuracy of the application.

3. Panda Midway Power Partners, L.P.

[Docket No. EG00-88-000]

Take notice that on January 28, 2000, Panda Midway Power Partners, L.P. (Panda), with its principal offices at 4100 Spring Valley Road, Suite 1001, Dallas, Texas 75244, filed with the Federal Energy Regulatory Commission, an application for determination of exempt wholesale generator status pursuant to Section 32 of the Public Utility Holding Company Act of 1935, as amended, and Part 365 of the Commission's regulations.

Panda is a Delaware limited partnership, which will construct, own and operate a nominal 1,000 MW natural gas-fired generating facility within the region governed by the Florida Reliability Coordinating Council and sell electricity at wholesale.

Comment date: February 24, 2000, in accordance with Standard Paragraph E at the end of this notice. The Commission will limit its consideration of comments to those that concern the adequacy or accuracy of the application.

4. CNG Power Services Corporation

[Docket No. ER94-1554-024]

Take notice that on January 24, 2000, CNG Power Services Corporation filed their quarterly report for the quarter ending December 31, 1999, for information only.

5. Phibro Power LLC

[Docket No. ER95-430-023]

Take notice that on January 20, 2000, Phibro Power LLC filed their quarterly report for the quarter ending December 31, 1999, for information only.

6. Potomac Electric Power Company

[Docket No. ER00-1256-000]

Take notice that on January 27, 2000, Potomac Electric Power Company (Pepco) tendered for filing a service agreement pursuant to Pepco FERC Electric Tariff, Original Volume No. 4, entered into between Pepco and Cinergy Capital & Trading, Inc.

An effective date of May 27, 1999 for this service agreement, with waiver of notice, is requested.

Comment date: February 17, 2000, in accordance with Standard Paragraph E at the end of this notice.

7. Potomac Electric Power Company

[Docket No. ER00-1257-000]

Take notice that on January 27, 2000, Potomac Electric Power Company (Pepco) tendered for filing a service agreement pursuant to Pepco FERC Electric Tariff, Original Volume No. 4, entered into between Pepco and Allegheny Power.

An effective date of May 27, 1999 is requested for this service agreement.

Comment date: February 17, 2000, in accordance with Standard Paragraph E at the end of this notice.

8. First Electric Cooperative Corporation

[Docket No. ER00-1258-000]

Take notice that on January 27, 2000, First Electric Cooperative Corporation (First Electric) tendered for filing its Initial Rate Filing for jurisdictional wheeling services that it provides within the State of Arkansas.

Comment date: February 17, 2000, in accordance with Standard Paragraph E at the end of this notice.

Louisiana Generating LLC

[Docket Nos. ER00-1259-000 and EL00-38-000]

Take notice that on January 27, 2000, Louisiana Generating LLC (Seller), a limited liability company organized under the laws of the State of Delaware, petitioned the Commission for an order: (1) Accepting Seller's proposed Rate Schedule FERC No. 1 (Market-Based Rate Schedule); (2) granting waiver of certain requirements under Subparts B and C of Part 35 of the regulations, and (3) granting the blanket approvals normally accorded sellers permitted to sell at market-based rates. Seller also requests waiver of Order Nos. 888 and 889 as to certain interconnection facilities Seller intends to acquire. Seller, an indirect subsidiary of Northern States Power Company, is acquiring the non-nuclear generating assets and other miscellaneous assets of Cajun Electric Power Cooperative, Inc.

Comment date: February 17, 2000, in accordance with Standard Paragraph E at the end of this notice.

10. Kentucky Utilities Company

[Docket No. ER00-1260-000]

Take notice that on January 27, 2000, Kentucky Utilities Company (KU) tendered for filing addenda to existing contracts between KU and its wholesale requirements customers.

KU requests an effective date of January 1, 2000 for these contracts.

Comment date: February 17, 2000, in accordance with Standard Paragraph E at the end of this notice.

11. New Century Services, Inc.

[Docket No. ER00-1261-000]

Take notice that on January 27, 2000, New Century Services, Inc. on behalf of Cheyenne Light, Fuel and Power Company, Public Service Company of Colorado, and Southwestern Public Service Company (collectively Companies) tendered for filing a Service Agreement under their Joint Open Access Transmission Service Tariff for Long Term Firm Point-to-Point Transmission Service between the Companies and Southwestern Public Service Company—Wholesale Merchant Function.

The Companies request that the Agreement be made effective on January 1, 2000.

Comment date: February 17, 2000, in accordance with Standard Paragraph E at the end of this notice.

12. Alliant Energy Corporate Services, Inc., Consolidated Water Power Company, GEN~SYS Energy, Florida Power & Light Company, Public Service Electric and Gas Company

[Docket Nos. ER00-1265-000, ER00-1266-000, ER00-1267-000, ER00-1268-000, ER00-1269-000]

Take notice that on January 24, 2000, the above-mentioned affiliated power producers and/or public utilities filed their quarterly reports for the quarter ending December 31, 1999.

Comment date: February 23, 2000, in accordance with Standard Paragraph E at the end of this notice.

13. Southwestern Public Service Company, Riverside Canal Power Company, Monmouth Energy, Inc., Mountainview Power Company, Western Resources, Inc., PP&L, Inc., PDI—New England & PDI—Canada, Southern Companies, Montana Power Company, South Eastern Electric Development Company, Montaup Electric Company

[Docket Nos. ER00-1270-000, ER00-1272-000, ER00-1273-000, ER00-1274-000, ER00-1275-000, ER00-1276-000, ER00-1277-000, ER00-1278-000, ER00-1279-000, ER00-1280-000, ER00-1281-000]

Take notice that on January 27, 2000, the above-mentioned affiliated power producers and/or public utilities filed their quarterly reports for the quarter ending December 31, 1999.

Comment date: February 23, 2000, in accordance with Standard Paragraph E at the end of this notice.

14. Wolverine Power Supply Cooperative, Inc., Deseret Generation & Transmission Co-operative, GS Electric Generating Cooperative, Inc., Tucson Electric Power Company, Tucson Electric Power Company, Archer-Daniels-Midland Company, El Paso Electric Company, Indeck-Olean Limited Partnership, Golden Spread Electric Cooperative, Inc., Virginia Electric and Power Company, Delmarva Power & Light Company, Mobile Energy Services Company, L.L.C.

[Docket Nos. ER00-1282-000, ER00-1283-000, ER00-1284-000, ER00-1285-000, ER00-1286-000, ER00-1287-000, ER00-1288-000, ER00-1289-000, ER00-1290-000, ER00-1291-000, ER00-1292-000, ER00-1293-000]

Take notice that on January 27, 2000. the above-mentioned affiliated power producers and/or public utilities filed their quarterly reports for the quarter ending December 31, 1999.

Comment date: February 23, 2000, in accordance with Standard Paragraph E at the end of this notice.

15. Bridgeport Energy, L.L.C., Casco Bay Energy Company, L.L.C., Central Illinois Light Company, Allegheny Power

[Docket Nos. ER00-1294-000, ER00-1295-000, ER00-1296-000, ER00-1302-000]

Take notice that on January 27, 2000, the above-mentioned affiliated power producers and/or public utilities filed their quarterly reports for the quarter ending December 31, 1999.

Comment date: February 23, 2000, in accordance with Standard Paragraph F at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-3074 Filed 2-9-00; 8:45 am]

BILLING CODE 6717-01-P